DEPARTMENT OF TRANSPORTATION

National Highway Traffic Safety Administration

[Docket No. NHTSA-2017-0072; Notice 1]

Jaguar Land Rover North America, LLC, Receipt of Petition for Decision of Inconsequential Noncompliance

AGENCY: National Highway Traffic Safety Administration (NHTSA), Department of Transportation (DOT).

ACTION: Receipt of petition.

SUMMARY: Jaguar Land Rover North America, LLC (JLR), on behalf of Jaguar Land Rover Limited, has determined that certain model year (MY) 2012-2018 Jaguar motor vehicles do not fully comply with Federal Motor Vehicle Safety Standard (FMVSS) No. 135, Light Vehicle Brake Systems. JLR filed a noncompliance report dated June 22, 2017. JLR also petitioned NHTSA on July 20, 2017, for a decision that the subject noncompliance is inconsequential as it relates to motor vehicle safety.

DATES: The closing date for comments on the petition is October 2, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Jaguar Land Rover North America, LLC (JLR), on behalf of Jaguar Land Rover Limited, has determined that certain model year (MY) 2012-2018 Jaguar motor vehicles do not fully comply with Federal Motor Vehicle Safety Standard (FMVSS) No. 135, Light Vehicle Brake Systems. JLR filed a noncompliance report dated June 22, 2017, pursuant to 49 CFR part 573, Defect and Noncompliance Responsibility and Reports. JLR also petitioned NHTSA on July 20, 2017, pursuant to 49 U.S.C. 30118(d) and 30120(h) and 49 CFR part 556, for an exemption from the notification and remedy requirements of 49 U.S.C. Chapter 301 on the basis that this noncompliance is inconsequential as it relates to motor vehicle safety.

This notice of receipt of JLR's petition is published under 49 U.S.C. 30118 and 30120 and does not represent any agency decision or other exercise of judgment concerning the merits of the petition.

II. Vehicles Involved: Approximately 126,127 of the following Jaguar motor vehicles, manufactured between February 8, 2012, and June 19, 2017, are potentially involved:

• 2017-2018 Jaguar F-Pace

• 2017-2018 Jaguar XE

• 2017-2018 Jaguar XF

• 2014-2018 Jaguar F-TYPE

• 2013-2017 Jaguar XJ

• 2012-2015 Jaguar XK

III. Noncompliance: JLR explains that the noncompliance is that the brake fluid warning statement label on the subject vehicles is not permanently affixed as required by paragraph S5.4.3(a) of FMVSS No. 135. Specifically, JLR installed a label that fits over the neck of the brake fluid reservoir that can be removed when the brake fluid reservoir cap is removed.

IV. Rule Text: Paragraph S5.4.3(a) of FMVSS No. 135 states, in pertinent part:

S5.4.3 Reservoir labeling. Each vehicle equipped with hydraulic brakes shall have a brake fluid warning statement that reads as follows, in letters at least 3.2 mm (⅛ inch) high: “WARNING: Clean filler cap before removing. Use only ____fluid from a sealed container.” (inserting the recommended type of brake fluid as specified in 49 CFR 571.116, e.g., “DOT 3.”) The lettering shall be. . .

. . .

(a) Permanently affixed, engraved or embossed;. . .

V. Summary of JLR's Petition: As background, in JLR's noncompliance report, JLR stated that a Product Safety and Compliance Committee (PSCC) Investigation was opened on June 6, 2017, following communication from a safety compliance engineer from NHTSA's Office of Vehicle Safety Compliance. The communication highlighted a concern where the brake reservoir label was not permanently affixed to the brake fluid reservoir as required by FMVSS No. 135, Light Vehicle Brake Systems. On June 13, 2017, JLR's PSCC concluded that the concern should be progressed to the Recall Determination Committee (RDC). The RDC reviewed all information on June 15, 2017, and concluded that the issue represented a compliance concern to FMVSS No. 135, Light Vehicle Brake Systems, but that the condition was considered inconsequential and requested that a petition for decision of inconsequential noncompliance be filed with NHTSA.

JLR described the subject noncompliance and stated its belief that the noncompliance is inconsequential as it relates to motor vehicle safety.

In support of its petition, JLR submitted the following reasoning:

1. The installed label will not fall off or become displaced during normal vehicle use or operation.

2. The installed label provides mechanical resistance to being removed.

3. There is interference between the installed label and reservoir filler neck such that a minimum of 2mm interference exists.

4. The installed label is only able to be removed when the brake fluid reservoir cap is displaced which, based on routine maintenance schedules, is once every 3 years in service.

5. The filler cap shows clearly the specification of brake fluid required.

6. The filler cap provides clear symbols including one for caution and one referring to handbook instructions. The owner's handbook descriptions indicate the proper brake fluid specification to be used in the vehicle.

7. The installed cap conforms to the requirements of ISO9128:2006 which is a requirement of UN-ECE Regulation 13 and 13h. NHTSA has previously granted petitions to accept ISO symbols in the absence of FMVSS labelling:

a. Jaguar Land Rover petition regarding controls and displays including brake system-related telltales (FR Vol.78, No. 213 Pg. 66101-66103).

b. Ford petition regarding controls and displays including brake system-related telltales (FR Vol. 78, No. 225 Pg 69931-69932)

c. Hyundai petition regarding lower anchorage identification (FR Vol. 73, No. 129 Pg. 38290-38291).

8. JLR has not received any customer complaints on this issue.

9. There have been no accidents or injuries as a result of this issue.

10. Vehicle production has been corrected to fully conform to FMVSS No. 135, Light Vehicle Brake Systems, S5.4.3(a) with a new filler cap.

JLR concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that JLR no longer controlled at the time it determined that the noncompliance existed. However, any decision on this petition does not relieve vehicle distributors and dealers of the prohibitions on the sale, offer for sale, or introduction or delivery for introduction into interstate commerce of the noncompliant vehicles under their control after JLR notified them that the subject noncompliance existed.

Authority: (49 U.S.C. 30118, 30120: delegations of authority at 49 CFR 1.95 and 501.8)

Jeffrey M. Giuseppe,
Director, Office of Vehicle Safety Compliance.

[FR Doc. 2017-18627 Filed 8-31-17; 8:45 am]

BILLING CODE 4910-59-P